DEPARTMENT OF LABOR

Employment and Training Administration

[TA-W-38,005]

Maxco-Tech Designs, Inc., Edgewater, NJ; Notice of Termination of Investigation

Pursuant to Section 221 of the Trade Act of 1974, an investigation was initiated on August 28, 2000 in response to a petition filed by a company official on the same date on behalf of workers at Maxco-Tech Designs, Inc., Edgewater, New Jersey.

The petitioner has requested that the petition be withdrawn. Consequently, further investigation in this case would serve no purpose, and the investigation has been terminated.

Signed in Washington, DC this 16th day of October, 2000.
Linda G. Poole,
Certifying Officer, Division of Trade Adjustment Assistance.

[FR Doc. 00-28031 Filed 10-31-00; 8:45 am]

BILLING CODE 4510-30-M